DEPARTMENT OF HEALTH AND HUMAN SERVICES

Health Care Financing Administration

[Document Identifier: HCFA-R-296]

Agency Information Collection Activities

ACTION: Notice; correction.

SUMMARY: In the Federal Register issue of Monday, January 3, 2000, make the following correction:

Correction: In the Federal Register issue of Monday, January 3, 2000, Volume 65, Number 1; DOCID:fr03ja00-47, on page 136, the last sentence of the first paragraph under “Use”, the phrase in parenthesis “(they are attached as Exhibits 1-3 hereto)” needs to be deleted. Also on page 136, in the second sentence of the second paragraph under “Use”, the word “attached” needs to be deleted, and in the first sentence of the paragraph under “Home Health Advance Beneficiary Notices”, the words “Exhibits 1-3” need to be deleted. The HHABNs are not attached to the Federal Register notice but can be obtained by accessing HCFA's web site address at (note correction to address) http://www.hcfa.gov/regs/prdact95.htm, or E-mail your request, including your address, phone number, OMB number, and HCFA document identifier, to Paperwork @hcfa.gov, or call the Reports Clearance Office on (410) 786-1326.

Dated: January 7, 2000.
John Parmigiani,
Manager, HCFA Office of Information Services, Security and Standards Group, Division of HCFA Enterprise Standards.

[FR Doc. 00-1198 Filed 1-18-00; 8:45 am]

BILLING CODE 4120-03-P